DEPARTMENT OF HEALTH AND HUMAN SERVICES

Administration for Children and Families

Proposed Information Collection Activity; Comment Request

Proposed Projects:

Title: Grant Application Data Summary (GADS) Form.

OMB No.: 0970-0328.

Description: The purpose of this request is to obtain emergency OMB clearance of the Grant Application Data Summary (GADS) form so information collected from all FY09 ANA grant applicants (in March 2009) is accurate.

The GADS collects information from applicants seeking grants from the Administration for Native Americans (ANA). ANA awards annual grants in nine competitive areas. Previously, ANA collected information using the GADS form for 4 competitive areas, not 9. The GADS form, which is part of the ANA discretionary grant application package, has been revised to comply with required changes made to the ANA FY09 Program Announcements (PAs). The PAs were changed to comply with a new policy established by ACF requiring that subcategories within a PA be broken down into a stand-alone PA. On 12/5/08, ANA published nine PAs to support this new requirement for separate PAs, it was necessary for ANA to change the GADS form to reflect the new PAs. Below are the changes to the GADS form: (please select relevant topic under one heading)

(1) Special Initiative: Family Preservation: Improving the Well-Being of Children Planning

Curriculum Development; Community Assessment; Develop a Family Preservation Strategic Plan

Please choose all relevant topics from the selection below:

Relationship and Marriage Education for Adults; Relationship and Marriage Education for Youth; Marriage Enrichment activities and services; Pre-marital education and marriage skills; Relationships Skills; Responsible Fatherhood or Parenting; Family preservation activities offered in a culturally appropriate and traditional manner; Absentee parent services, education and activities; Reduce child/infant abuse and neglect and family domestic violence; Needs of grandparents raising grandchildren; Foster Parent Training Family strengthening services to individuals with substance abuse issues; Public Advertising Campaigns; Research

(2) Special Initiative: Family Preservation: Improving the Well-Being of Children Implementation

Relationship & Marriage Education for Adults; Relationship & Marriage Education for Youth; Marriage Enrichment activities & services; Pre-marital education & marriage skills; Relationships Skills; Responsible Fatherhood; Parenting; Family preservation activities in a culturally appropriate & traditional manner; Absentee parent services, education & activities; Family Domestic Violence; Grandparents raising grandchildren; Foster Parent Training; Family strengthening services to individuals with substance abuse issues; Public Advertising Campaigns; Research

(3) Native Language Preservation & Maintenance Assessment

Data Collection; Formal Language Assessment; Informal Language Assessment

(4) Native Language Preservation & Maintenance Planning

Plan & design Master/Apprentice programs; Plan & design comprehensive Native language immersion programs for a language nest or survival school; Plan, design & test curriculum for students, parents & language instructors; Plan & design teaching materials; Record, transcribe & archive oral testimony; Plan & design language resource materials using recorded oral testimony; Plan & design multi-media language learning tools; Plan & design teacher certification programs; Train teachers, interpreters or translators of Native languages

(5) Native Language Preservation & Maintenance Implementation

Produce/disseminate culturally relevant printed stories for children using the Native language of the community; Facilitate/encourage intergenerational teaching of Native American language skills; Disseminate culturally relevant materials to teach & enhance the use of Native American languages; Implement an immersion, mentor or distance learning model; Produce, distribute or participate in various media forms to broadcast Native languages; Implement an educational site-based immersion project

(6) Native Language Preservation & Maintenance Immersion Language Nest; Language Survival School

Respondents: Federally Recognized Indian Tribes, Tribal Governments, Native American Non-profits, Tribal Colleges and Universities

Annual Burden Estimates
Instrument | Number of respondents | Number of responses per respondent | Average burden hours per response | Total burden hours
Grant Application Data Summary (GADS) | 500 | 1 | 0.50 | 250

Estimated Total Annual Burden Hours: 250.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 11, 2009.
Janean Chambers,
Reports Clearance Officer.

[FR Doc. E9-3240 Filed 2-13-09; 8:45 am]

BILLING CODE 4184-01-P